DEPARTMENT OF COMMERCE

National Oceanic and Atmospheric Administration

[I.D. 071406G]

Fisheries in the Western Pacific; American Samoa Longline Limited Entry Program

AGENCY: National Marine Fisheries Service (NMFS), National Oceanic and Atmospheric Administration (NOAA), Commerce.

ACTION: Notice; availability of permit upgrades.

SUMMARY: NMFS is soliciting applications for permit upgrades in the American Samoa longline limited entry program. Eight upgrade permits will be available in 2006 for holders of Class A vessel permits (i.e., less than or equal to 40 ft or 12.2 m in length) to upgrade to permits for larger vessels (Class B-1, C-1, or D-1). The upgrade permits are available only to Class A permit holders who participated in the fishery before March 22, 2002. The highest priority for receiving an upgrade permit will be given to the person with the earliest date of documented participation.

DATES: Completed applications for permit upgrades must be received by NMFS by September 26, 2006.

ADDRESSES: Completed applications should be sent to NMFS Pacific Islands Region, Attn: ASLE Permit Upgrade, 1601 Kapiolani Blvd., Suite 1110, Honolulu, HI 96814-4700.

Application forms may be obtained from NMFS Pacific Islands Region, 1601 Kapiolani Blvd., Suite 1110, Honolulu, HI 96814-4700, or the NMFS Pacific Islands Region website: http://swr.nmfs.noaa.gov/pir/.

FOR FURTHER INFORMATION CONTACT: Walter Ikehara, NMFS Pacific Islands Region, (808) 944-2275.

SUPPLEMENTARY INFORMATION: On May 25, 2005, NMFS published a final rule (70 FR 29646) that established a limited entry program for the pelagic longline fishery based in American Samoa, under Amendment 11 to the Fishery Management Plan for Pelagic Fisheries in the Western Pacific Region. American Samoa longline limited entry permits were established for four vessel size classes, based on length, as follows:

1. Class A - less than or equal to 40 ft (12.2 m);

2. Class B (and B-1) - over 40 ft (12.2 m) to 50 ft (15.2 m) inclusive;

3. Class C (and C-1) - over 50 ft (15.2 m) to 70 ft (21.3 m) inclusive; and

4. Class D (and D-1) - over 70 ft (21.3 m).

A total of 60 initial American Samoa longline limited entry permits were issued, 22 in Class A, five in Class B, 12 in Class C, and 21 in Class D. These numbers are the limits on the number of allowed American Samoa longline limited entry permits for each size class, as defined by the regulations setting the maximum limit on permits under the limited entry program (50 CFR 665.36(f)).

The limited entry program allows for 26 upgrade permits to be made available for the exclusive use of permit holders in Class A, distributed over a four-year period following the issuance of initial limited entry permits. In 2006, eight upgrade permits will be available (four in Class B-1, two in Class C-1, and two in Class D-1). The Regional Administrator may initially issue Class B-1, C-1, and D-1 upgrade permits only to holders of Class A permits who participated in the American Samoa pelagic longline fishery before March 22, 2002 (50 CFR 665.36h)). The highest priority will be given to those with the earliest date of documented participation. Those receiving upgrade permits must surrender their Class A permits, and the surrendered permits are deducted from the allowed Class A permit total.

This notice is intended to announce the availability of permit upgrades and to solicit applications for the upgrades. Complete applications must include the completed and signed application form (available from NMFS, see ADDRESSES), legible copies of documents supporting historical participation in the American Samoa pelagic longline fishery, and payment for the non-refundable application processing fee. Documents supporting participation should show that fishing was conducted using longline gear. Properly completed applications must be received by NMFS (see ADDRESSES) by September 26, 2006 to be considered for eligibility for the 2006 permit upgrades.

Authoritative information on the American Samoa limited entry program may be found in the 50 CFR Part 665.

Authority: 16 U.S.C. 1801 et seq.

Dated: July 25, 2006.
Alan D. Risenhoover,
Acting Director, Office of Sustainable Fisheries, National Marine Fisheries Service

[FR Doc. E6-12130 Filed 7-27-06; 8:45 am]

BILLING CODE 3510-22-S